DEPARTMENT OF DEFENSE

Department of the Army

[Docket ID: USA-2008-0031]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0140 DAJA

System name:

JAGC Reserve Components Officer Personnel Records (February 22, 1993, 58 FR 10002).

Changes:

* * * * *

System location:

Delete entry and replace with “1777 N. Kent Street, DAJA-PT, Rosslyn, VA 22209.”

Categories of individuals covered by the system:

Delete entry and replace with “All Judge Advocate General Corps (JAGC) U.S. Army Reserve officers, not serving on extended active duty; and officers seeking appointment, branch transfer, or Federal Recognition to the JAGC without concurrent call to active duty.”

* * * * *

Authority for maintenance of the system:

Delete entry and replace with “10 U.S.C. 3013, Secretary of the Army; 10 U.S.C. 10204, Personnel Records; Army Regulation 140-1, Mission, Organization, and Training and E.O. 9397 (SSN).”

* * * * *

Storage:

Delete entry and replace with “Electronic Storage Media.”

* * * * *

System manager(s) and address:

Delete entry and replace with “Office of the Judge Advocate General, Personnel, Plans and Training Office, 1777 N. Kent Street, Rosslyn, VA 22209.”

Notification procedure:

Delete entry and replace with “Office of the Judge Advocate General, Personnel, Plans and Training Office, 1777 N. Kent Street, Rosslyn, VA 22209.

Individual must provide his/her name, Social Security Number, sufficient details to permit locating pertinent records, and signature.”

Record access procedures:

Delete entry and replace with “Office of the Judge Advocate General, Personnel, Plans and Training Office, 1777 N. Kent Street, Rosslyn, VA 22209.

Individual must provide his/her name, Social Security Number, sufficient details to permit locating pertinent records, and signature.”

* * * * *

A0140 DAJA

System name:

JAGC Reserve Components Officer Personnel Records.

System location:

1777 N. Kent Street, DAJA-PT, Rosslyn, VA 22209.

Categories of individuals covered by the system:

All Judge Advocate General Corps (JAGC) U.S. Army Reserve officers, not serving on extended active duty; and officers seeking appointment, branch transfer, or Federal Recognition to the JAGC without concurrent call to active duty.

Categories of records in the system:

Individual's name, Social Security Number, application for appointment, active duty training, constructive credit, mobilization designee position, educational courses completed, home and business addresses and telephone numbers, grade, promotion eligibility date, primary military occupational specialty, date of birth, sex, basic date of mandatory removal, unit assignment and address, employer, job title, specialty and awards, correspondence between the Army and the individual.

Authority for maintenance of the system:

10 U.S.C. 3013, Secretary of the Army; 10 U.S.C. 10204, Personnel Records; Army Regulation 140-1, Mission, Organization, and Training and E.O. 9397 (SSN).

Purpose(s):

To schedule Judge Advocate General Corps reserve officer training; select officers for reserve unit command positions; identify individual reservists in need of training; determine mandatory retirement dates; provide full background information on individuals applying for mobilization designee positions, constructive credit for training courses and/or active duty for training, to document background of applicants for appointment in the Judge Advocate General Corps or branch transfer consistent with prerequisites required for type of appointment/ branch transfer and to establish eligibility for appointment/branch transfer. Records are also used for management and statistical studies and reports.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ set forth at the beginning of the Army's compilation of systems of records notices also apply to this system.

Policies and practices for storing, retrieving, accessing, retaining, and disposing of records in the system:

Storage:

Paper records in file folders; magnetic tape/disc.

Retrievability:

By individual's surname, Social Security Number.

Safeguards:

All records are maintained in secured areas, accessible only to designated officials. Automated records require password for access.

Retention and disposal:

Records are retained until individual officer retires from the Reserves, held 2 additional years, and then destroyed.

System manager(s) and address:

Office of the Judge Advocate General, Personnel, Plans and Training Office, 1777 N. Kent Street, Rosslyn, VA 22209.

Notification procedure:

Office of the Judge Advocate General, Personnel, Plans and Training Office, 1777 N. Kent Street, Rosslyn, VA 22209.

Individual must provide his/her name, Social Security Number, sufficient details to permit locating pertinent records, and signature.

Record access procedures:

Office of the Judge Advocate General, Personnel, Plans and Training Office, 1777 N. Kent Street, Rosslyn, VA 22209.

Individual must provide his/her name, Social Security Number, sufficient details to permit locating pertinent records, and signature.

Contesting record procedures:

The Army's rules for accessing records, and for contesting contents and appealing initial agency determinations are contained in Army Regulation 340-21; 32 CFR part 505; or may be obtained from the system manager.

Record source categories:

From the individual; official personnel documents.

Exemptions claimed for the system:

None.

[FR Doc. E8-17023 Filed 7-24-08; 8:45 am]

BILLING CODE 5001-06-P